DEPARTMENT OF HOMELAND SECURITY

Federal Emergency Management Agency

[Docket ID FEMA-2011-0012]

Agency Information Collection Activities: Proposed Collection; Comment Request, 1660-NEW; Level 1 Assessment and Level III Evaluations for the Center for Domestic Preparedness (CDP)

AGENCY: Federal Emergency Management Agency, DHS.

ACTION: Notice; 60-day notice and request for comments; new information collection; OMB No. 1660-NEW; FEMA Form 092-0-2, Level 1 Assessment Form; FEMA Form 092-0-2A, Level 3 Evaluation Form for Students; FEMA Form 092-0-2B, Level 3 Evaluation Form for Supervisors.

SUMMARY: The Federal Emergency Management Agency, as part of its continuing effort to reduce paperwork and respondent burden, invites the general public and other Federal agencies to take this opportunity to comment on a proposed new information collection. In accordance with the Paperwork Reduction Act of 1995, this notice seeks comments concerning course evaluations for the Center for Domestic Preparedness.

DATES: Comments must be submitted on or before June 28, 2011.

ADDRESSES: To avoid duplicate submissions to the docket, please use only one of the following means to submit comments:

(1) Online. Submit comments at http://www.regulations.gov under Docket ID FEMA-2011-0012. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2011-0012 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Linda S. Pressley, Assistant Director of Analysis and Evaluation, Center for Domestic Preparedness, 256-847-2685 for additional information. You may contact the Records Management Division for copies of the proposed collection of information at facsimile number (202) 646-3347 or e-mail address: FEMA-Information-Collections-Management@dhs.gov.

SUPPLEMENTARY INFORMATION: The Center for Domestic Preparedness (CDP) is required by Congress to identify, develop, test, and deliver training to State, local, and Tribal emergency response providers, provide on-site and mobile training at the performance and management and planning levels, and facilitate the delivery of training by the training partners of the Department of Homeland Security pursuant to Section 1204 of the Implementing Recommendations of the 9/11 Commission Act of 2007, Public Law 110-53, 121 Stat. 266, August 3, 2007 (codified at 6 U.S.C. 1102). The collection of this data will help facilitate that Congressional mandate.

Collection of Information

Title: Level 1 Assessment and Level III Evaluations for the Center for Domestic Preparedness (CDP).

Type of Information Collection: New information collection.

OMB Number: OMB No. 1660-NEW.

Form Titles and Numbers: FEMA Form 092-0-2, Level 1 Assessment Form; FEMA Form 092-0-2A, Level 3 Evaluation Form for Students; FEMA Form 092-0-2B, Level 3 Evaluation Form for Supervisors.

Abstract: The forms in this collection of information will be used to survey the Center for Domestic Preparedness (CDP) students (and their supervisors) enrolled in CDP courses. The survey will collect information regarding quality of instruction, course material, and impact of training on their professional employment.

Affected Public: State, local or Tribal government.

Estimated Total Annual Burden Hours: 18,000 hours.

Annual Hour Burden
Data collection activity/instrument | Number of respondents | Frequency of responses | Hour burden per response | Annual responses | Total annual burden hours
Level 1 Assessment Form, FEMA Form 092-0-2 | 52,000 | 1 | 15 minutes (.25 hours) | 52,000 | 13,000
Level 1 Assessment Form, FEMA Form 092-0-2 | 13,000 | 1 | 15 minutes (.25 hours) | 13,000 | 3,250
Level 3 Evaluation Form for Students, FEMA Form 092-0-2A | 1,500 | 1 | 15 minutes (.25 hours) | 1,500 | 375
Level 3 Evaluation Form for Students, FEMA Form 092-0-2A | 2,000 | 1 | 15 minutes (.25 hours) | 2,000 | 500
Level 3 Evaluation Form for Supervisors, FEMA Form 092-0-2B | 1,500 | 1 | 15 minutes (.25 hours) | 1,500 | 375
Level 3 Evaluation Form for Supervisors, FEMA Form 092-0-2B | 2,000 | 1 | 15 minutes (.25 hours) | 2,000 | 500
Level 1 Assessment Form, FEMA Form 092-0-2 | 52,000 | 1 | 15 minutes (.25 hours) | 52,000 | 13,000
Total | 72,000 |  |  |  | 18,000

Estimated Cost: There are no annual start-up or capital costs.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 19, 2011.
Lesia M. Banks,
Director, Records Management Division, Mission Support Bureau, Federal Emergency Management Agency, Department of Homeland Security.

[FR Doc. 2011-10399 Filed 4-28-11; 8:45 am]

BILLING CODE 9111-53-P